DEPARTMENT OF COMMERCE

National Oceanic and Atmospheric Administration

15 CFR Part 922

Initiation of Review of the Management Plan/Regulations of the Flower Garden Banks National Marine Sanctuary; Intent To Prepare Draft Environmental Impact Statement and Management Plan; Scoping Meetings

AGENCY: National Marine Sanctuary Program (NMSP), National Ocean Service (NOS), National Oceanic and Atmospheric Administration (NOAA), Department of Commerce (DOC).

ACTION: Initiation of review of management plan/regulations; intent to prepare environmental impact statement; scoping meetings.

SUMMARY: The Flower Garden Banks National Marine Sanctuary (FGBNMS or Sanctuary) was designated in January 1992, and consists of three separate areas in the Northwestern Gulf of Mexico, known as East Flower Garden, West Flower Garden and Stetson Banks. The present management plan for the Sanctuary was completed at the time of designation. In accordance with Section 304(e) of the National Marine Sanctuaries Act, as amended, (NMSA) (16 U.S.C. 1431 et seq.), the National Marine Sanctuary Program (NMSP) of the National Oceanic and Atmospheric Administration (NOAA) is initiating a review of the management plan, to evaluate substantive progress toward implementing the goals for the Sanctuary, and to make revisions to the plan and regulations as necessary to fulfill the purposes and policies of the NMSA.

The proposed revised management plan will likely involve changes to existing policies and regulations of the Sanctuary, to address contemporary issues and challenges, and to better protect and manage the Sanctuary's resources and qualities. The review process is composed of four major stages: Information collection and characterization; preparation and release of a draft management plan/environmental impact statement, and any proposed amendments to the regulations; public review and comment; and preparation and release of a final management plan/environmental impact statement, and any final amendments to the regulations. NOAA anticipates completion of the revised management plan and concomitant documents will require approximately eighteen to twenty-four months.

NOAA will conduct public scoping meetings to gather information and other comments from individuals, organizations, and government agencies on the scope, types and significance of issues related to the Sanctuary's management plan and regulations. The scoping meetings are scheduled for October 17, 19, and 24, 2006, as detailed below.

DATES: Written comments should be received on or before November 10, 2006.

Scoping meetings will be held at:

(1) October 17, 7-10 p.m., Webster, TX (Houston/Galveston area).

(2) October 19, 7-10 p.m., Corpus Christi, TX.

(3) October 24, 7-10 p.m., New Orleans, LA.

ADDRESSES: Written comments may be sent to the Flower Garden Banks National Marine Sanctuary (Management Plan Review), 4700 Avenue U, Building 216, Galveston, Texas 77551. Comments will be available for public review at the same address.

Scoping meetings will be held at:

(1) Webster Civic Center, 311 Pennsylvania Street, Webster, TX 77598.

(2) Harte Research Institute for Gulf of Mexico Studies, Texas A&M University—Corpus Christi, 6300 Ocean Drive, Corpus Christi, TX 78412.

(3) Audubon Zoo—Dominion Learning Center, 6500 Magazine Street, New Orleans, LA 70118.

FOR FURTHER INFORMATION CONTACT: Jennifer Morgan, 409-621-5151 Ext. 103, fgbmanagementplan@noaa.gov.

Authority: 16 U.S.C. Section 1431 et seq.

(Federal Domestic Assistance Catalog Number 11.429 Marine Sanctuary Program)
Dated: August 28, 2006.
Daniel J. Basta,
Director, National Marine Sanctuary Program.

[FR Doc. 06-7481 Filed 9-6-06; 8:45am]

BILLING CODE 3510-08-M